DEPARTMENT OF HOUSING AND URBAN DEVELOPMENT

24 CFR Part 203

[Docket No. FR-4835-C-02]

RIN 2502-AI00

FHA TOTAL Mortgage Scorecard

AGENCY: Office of the Assistant Secretary for Housing—Federal Housing Commissioner, HUD.

ACTION: Interim rule; technical correction.

SUMMARY: On November 21, 2003, HUD published an interim rule to codify the procedures that mortgagees and automated underwriting system (AUS) vendors must observe if they opt to use the “Technology Open To Approved Lenders” mortgage scorecard offered by the Federal Housing Administration (FHA). This document corrects the interim rule by changing certain references to “mortgage” to read “mortgagee” and to remove “FHA-approved” as a modifier of “AUS” in a certain instance.

DATES: Effective Date: December 22, 2003.

FOR FURTHER INFORMATION CONTACT: Vance T. Morris, Director, Office of Single Family Program Development, Room 9278, Department of Housing and Urban Development, 451 Seventh Street, SW., Washington, DC 20410-8000; telephone (202) 708-2121. (This is not a toll-free number.) Hearing- or speech-impaired persons may access this number by calling the toll-free Federal Information Relay Service number at 1-800-877-8339.

SUPPLEMENTARY INFORMATION: On November 21, 2003 (68 FR 65824), HUD published an interim rule providing requirements for the use of the “Technology Open To Approved Lenders” mortgage scorecard (TOTAL Mortgage Scorecard, or Scorecard). The preamble to this rule, in the third column of page 65824, states: “Only AUSs developed, operated, owned, or used by FHA-approved Direct Endorsement mortgages, Fannie Mae, or Freddie Mac will be able to access the scorecard, and only FHA-approved mortgagees will be able to obtain risk assessments using the TOTAL Mortgage Scorecard.” The reference in this sentence to “Direct Endorsement mortgages” should have read “Direct Endorsement mortgagees” instead. A conforming change removing “FHA-approved” as a modifier of “automatic underwriting systems (AUSs)” and changing “Direct Endorsement mortgages” to “Direct Endorsement mortgagees” is also made to the regulation, at § 203.255(b)(5)(i)(A).

Accordingly, FR Doc. 03-29055, FHA TOTAL Mortgage Scorecard, (FR-4835-I-01), published in the Federal Register on November 21, 2003 (68 FR 65824), is corrected as follows:

1. On page 65824, third column, the fourth complete sentence under the heading, “II. This Interim Rule,” is revised to read as follows: “Only AUSs developed, operated, owned, or used by FHA-approved Direct Endorsement mortgagees, Fannie Mae, or Freddie Mac will be able to access the scorecard, and only FHA-approved mortgagees will be able to obtain risk assessments using the TOTAL Mortgage Scorecard.”

2. On page 65827, second column, § 203.255(b)(5)(i)(A) is revised to read as follows:

§ 203.255 Insurance of mortgage.

* * * * *

(b) * * *

(5) * * *

(i) * * *

(A) Permissible users. Only automatic underwriting systems (AUSs) developed, operated, owned, or used by FHA-approved Direct Endorsement mortgagees, Fannie Mae, or Freddie Mac, may access TOTAL, and only FHA-approved mortgagees will be able to obtain risk-assessments using TOTAL;

* * * * *

Dated: December 23, 2003.
Aaron Santa Anna,
Assistant, General Counsel for Regulations.

[FR Doc. 03-32021 Filed 12-31-03; 8:45 am]

BILLING CODE 4210-27-P